DEPARTMENT OF AGRICULTURE

Grain Inspection, Packers and Stockyards Administration

United States Standards for Beans

AGENCY: Grain Inspection, Packers and Stockyards Administration, USDA.

ACTION: Notice with opportunity to comment.

SUMMARY: The Grain Inspection, Packers and Stockyards Administration (GIPSA) is proposing to remove the special grade designation “off-color” from the United States Standards for Beans. GIPSA will continue to offer assessments for color uniformity on a request only basis. This action will facilitate the marketing of beans from many different regions.

DATES: Comments must be received by January 18, 2005.

ADDRESSES: We invite you to submit comments on the proposed rule. You may submit comments by any of the following methods:

• E-mail: Send comments via electronic mail to comments.gipsa@usda.gov.

• Mail: Send hardcopy written comments to Tess Butler, GIPSA, USDA, 1400 Independence Avenue, SW., Room 1647-S, Washington, DC, 20250-3604.

• Fax: Send comments by facsimile transmission to: (202) 690-2755.

• Hand Delivery or Courier: Deliver comments to: Tess Butler, GIPSA, USDA, 1400 Independence Avenue, SW., Room 1647-S, Washington, DC, 20250-3604.

All comments should make reference to the date and page number of this issue of the Federal Register.

To read comments: All comments received will be made available for public inspection at the above address during regular business hours (7 CFR 1.27(b)).

The current United States Standards for Beans are available by accessing GIPSA's Home Page on the Internet at: http://www.usda.gov/gipsa/reference-library/standards/stds.htm.

FOR FURTHER INFORMATION CONTACT: John Giler, Deputy Director, Field Management Division, USDA, GIPSA, Room 2429-S, Stop 3632, 1400 Independence Avenue, SW., Washington, DC, 20250-3632, telephone (202) 720-0252; or e-mail to: John.C.Giler@usda.gov.

SUPPLEMENTARY INFORMATION: Section 203(c) of the Agricultural Marketing Act of 1946, as amended, directs and authorizes the Secretary of Agriculture “to develop and improve standards of quality, condition, quantity, grade, and packaging and recommend and demonstrate such standards in order to encourage uniformity and consistency in commercial practices * * *”. GIPSA is committed to carrying out this authority in a manner that facilitates the marketing of agricultural commodities. The United States Standards for Beans do not appear in the Code of Federal Regulations but are maintained by the U.S. Department of Agriculture.

GIPSA is proposing to change the United States Standards for Beans using the procedures that appear at 7 CFR Section 868.102. GIPSA representatives work closely with the National Dry Bean Council (NDBC) and others in the bean industry to examine the effectiveness of the U.S. Standards for Beans in today's marketing environment. Through discussions, it appears that the current standards continue to meet consumer/processor needs. However, the bean industry has indicated the special grade “off-color” in dry beans is not needed to market dry beans.

The special grade designation “off-color” has been in the U.S. Standards for Beans for many years. Because it is a special grade designation, it does not affect the numerical grade designation. The current written description for “off-color” is: “Beans that, after removal of total defects, are distinctly off-color due to age or other natural causes but are not materially weathered.”

Off-color is determined on a representative sample of approximately 500 grams after the removal of total defects (i.e., splits, damaged beans, contrasting classes, and foreign material). Beans are considered as “off-color” if they are not of a good natural color or are stained to an extent that they seriously affect the appearance of the lot. Beans that are discolored by dust or a slight amount of dirt, which can be removed by processing methods, are not considered as “off-color.”

Bean color is dependent upon environmental conditions, varietal differences, moisture, storage, and age. Beans grown in various regions may vary greatly in general appearance. As beans mature and are ready for harvest, outside forces such as dew, rain, and sunlight, can greatly affect the color of the beans. These same forces cause beans in the same regions to vary in color from season to season.

Further, beans of one class and variety grown in the Pacific Northwest may have an entirely different color than the same beans grown in the Midwest regions, yet both would be of good natural color for their regions. For example, the Colorado/Idaho grown pinto bean generally has a lighter seed coat color than the pinto beans grown in North Dakota. Both color types appeal to consumers and are considered a “good natural color.”

Further, there is no visual reference for off-color, and, due to the many variances, attempts to develop a visual reference have been difficult. This can make assessment for off-color sometimes difficult.

The majority of suppliers know their customer and their specific quality preferences. When asked to furnish a light, uniformly colored bean, suppliers generally know the implied color parameters, for their respective areas, that the customer is setting due to the supplier/buyer relationship. However, when the supplier is not clear as to the needs of the customers, they use “type samples.” That is, the supplier forwards a sample representing the color and quality they have available to prospective customers for examination and approval. If the color and quality are acceptable, comparable quality is shipped to the customer without incident.

GIPSA recognizes that color is, at times, a concern to buyers. Consequently, GIPSA will provide, upon request, an analysis for color to determine if color is uniform or is representative of a “type” sample. When a request for color analysis is made, a statement will be added to the certificate in the “Remarks” section stating whether the color is uniform, not uniform, or meets the requirements of the type sample.

GIPSA is proposing to remove the special grade designation “off-color” from the United States Standards for Beans. GIPSA will continue to offer assessments for color uniformity on a request only basis. This action will facilitate the marketing of beans from many different regions.

GIPSA will solicit comments for 30 days. This comment period is considered appropriate given the upcoming production season for beans. All comments received within the comment period will be made part of the public record maintained by GIPSA, will be available to the public for review, and will be considered by GIPSA before final action is taken on the proposal.

Authority: 7 U.S.C. 1621 et seq.

Donna Reifschneider,
Administrator, Grain Inspection, Packers and Stockyards Administration.

[FR Doc. 04-27626 Filed 12-16-04; 8:45 am]

BILLING CODE 3410-EN-P